ENVIRONMENTAL PROTECTION AGENCY

Administrative Settlement Agreement and Order on Consent for Payment of Past Response Costs: Lincoln Park Superfund Site, Canyon City, Fremont County, Colorado

AGENCY: Environmental Protection Agency (EPA).

ACTION: Notice of proposed agreement; request for public comment.

SUMMARY: In accordance with the requirements of section 122(h)(l) of the Comprehensive Environmental Response Compensation, and Liability Act of 1980, as amended (“CERCLA”), 42 U.S.C. 9604, 9606(a), 9607 and 9622, notice is hereby given of the proposed administrative settlement under section 122(h)(l) of CERCLA, between the U.S. Environmental Protection Agency (“EPA”) and Cotter Corporation (N.S.L.) (“Settling Party”). The proposed Settlement Agreement requires the Settling Party to pay for past oversight costs. The Settling Party consents to and will not contest the authority of the United States to enter into the Agreement or to implement or enforce its terms. The Settling Parties recognize that the Agreement has been negotiated in good faith and that the Agreement is entered into without the admission or adjudication of any issue of fact or law.

DATES: Comments must be submitted on or before July 18, 2016. For thirty (30) days following the date of publication of this notice, the Agency will receive written comments relating to the agreement. The Agency will consider all comments received and may modify or withdraw its consent to the agreement if comments received disclose facts or considerations that indicate that the agreement is inappropriate, improper, or inadequate.

ADDRESSES: The proposed agreement and additional background information relating to the agreement, as well as the Agency's response to any comments are or will be available for public inspection at the EPA Superfund Record Center, 1595 Wynkoop, Denver, Colorado, by appointment.

Comments and requests for a copy of the proposed agreement should be addressed to Sharon Abendschan, Enforcement Specialist, Environmental Protection Agency-Region 8, Mail Code 8ENF-RC, 1595 Wynkoop Street, Denver, Colorado 80202 and should reference the Lincoln Park Superfund Site, Canyon City, Fremont County, Colorado.

FOR FURTHER INFORMATION CONTACT: Steven Moores, Enforcement Attorney, Legal Enforcement Program, Environmental Protection Agency-Region 8, Mail Code 8ENF-L, 1595 Wynkoop Street, Denver, Colorado 80202, (303) 312-6857.

Dated: June 2, 2016.
Suzanne Bohan,
Assistant Regional Administrator, Office of Enforcement, Compliance and Environmental Justice, U.S. Environmental Protection Agency, Region VIII.

[FR Doc. 2016-14294 Filed 6-15-16; 8:45 am]

BILLING CODE 6560-50-P